DEPARTMENT OF JUSTICE

Antitrust Division

Notice Pursuant to the National Cooperative Research and Production Act of 1993—TeleManagement Forum

Notice is hereby given that, on August 7, 2007, pursuant to Section 6(a) of the National Cooperative Research and Production Act of 1993, 15 U.S.C. 4301 et seq. (“the Act”), TeleManagement Forum (“the Forum”) filed written notifications simultaneously with the Attorney General and the Federal Trade Commission disclosing changes in its membership. The notifications were filed for the purpose of extending the Act's provisions limiting the recovery of antitrust plaintiffs to actual damages under specified circumstances. Specifically, @Home, Groningen, NETHERLANDS; 3G CLUB (Communication Leaders United Board), Taipei, TAIWAN; Alt-Lan, Moscow, RUSSIA; Averox plc, Uxbridge, Middlesex, UNITED KINGDOM; Avici Systems Inc., North Brillerica, MA; Bakcell Ltd, Baku, AZERBAIJAN; BEE MediaSoft Limited, Hong Kong, HONG KONG-CHINA; BNM Incorporated, Indialantic, FL; Brighthaul, Herzelia, ISRAEL; Bulgarian Telecommunication Company, Sofia, BULGARIA; CACI Ltd, London, UNITED KINGDOM; Casema BV, Den Haag, zh, NETHERLANDS; Cerillion Technologies Limited, London, UNITED KINGDOM; Column Technologies, Downers Grove, IL; CRC-Pinnacle Consulting Co., Ltd, Beijing, PEOPLES REPUBLIC OF CHINA; Cyprus Telecommunications Authority (CYTA), Nicosia, CYPRUS; Dataduct Technologies Ltd, Dun Laoghaire, Dublin, IRELAND; Dublin City University, Dublin, IRELAND; Edelweiss Service Consulting SàRL, Geneva, SWITZERLAND; Elanti Systems, Inc., Murray Hill, NJ; Elitecore Technologies Limited, Ahmedabad, Gujarat, INDIA; Fixed Telefonica Brazil, Sao Paulo, BRAZIL; FLAG Telecom, West Drayton, Middlesex, UNITED KINGDOM; Forthnet S.A., Kallithea, Attica, GREECE; Fusion Business Solutions, Hounslow, Middlesex, UNITED KINGDOM; Gartner, Stamford CT; Grant Thornton Consulting Company Limited, Bangkok, THAILAND; Gridpoint Systems, Ottawa, Ontario, CANADA; Gruppo H2O, Milan, ITALY; GTA Consulting, Outremont, Quebec, CANADA; Hong Kong CSL Limited, Telegraph Bay, Hong Kong, HONG KONG-CHINA; IneoQuest Technologies, Inc., Mansfield, MA; Infotech Enterprises Europe, London, UNITED KINGDOM; Iptivia, New York, NY; isilogica Sàrl, Arzier, Vaud, SWITZERLAND; IST Holdings (Pty) Ltd, Pretoria, Gauteing, SOUTH AFRICA; Jet Infosystems, Moscow, RUSSIA; KDDI R&D Laboratories, Inc., Fujimino, Saitama, JAPAN; Kyak Systems Ltd, London, UNITED KINGDOM; Lifetree Convergence Ltd, New Delhi, Delhi, INDIA; Makedonski Telekomunikacii, Skopje, MACEDONIA; Martin Group, Mitchell, SD; MBR Partners, Stockley Park, Uxbridge, UNITED KINGDOM; Mobinomics, Cape Town, Western Cape, SOUTH AFRICA; Ness Technologies & Systems Group (TSG), Tel Aviv, ISRAEL; NETvisor, Budapest, HUNGARY; NMSWorks Software Pvt. Ltd, Chennai, Tamil nadu, INDIA; Novabit Informationssyteme GmbH, Sauerlach, Bayern, GERMANY; Novell, Waltham, MA; O2UK, Slough, Berkshire, UNITED KINGDOM; OMANTEL, Ruwi, Muscat, OMAN; one2tribe Sp. Z o.o., Michalowice, POLAND; Packet Design Inc., Palo Alto, CA; Raavi Consulting Services, Hyderabad, Andhra Pradesh, INDIA; RiCo, Feodosia, Crimea, UKRAINE; Ronanki Infotech Private Ltd, Bangalore, Karnataka, INDIA; RRD—Reti Radiotelevisive Digitali spa, Milano, ITALY; Sales Technologies, Auckland, NEW ZEALAND; SciSys UK Ltd., Chippenham, UNITED KINGDOM; Tail-f Systems, Stockholm, SWEDEN; Technology Transitions, Inc., Bound Brook, NJ; TelecomAdvisors International S.A., Panama City, PANAMA; Telefonica, Madrid, SPAIN; Telefonica Moviles Colombia S.A., Bogota, Distrito Capital, COLOMBIA; Teleonto Technologies Pvt. Ltd, Hyderabad, AP, INDIA; Teradata, Dayton, OH; University of Jvyäskylaä, FINLAND; University of Otago, Dunedin, Otago, NEW ZEALAND; UPC Broadband Operations b.v., Schiphol Rijk, NETHERLANDS; VISITEK, Jakarta Selatan, Jakarta, INDONESIA; VSS monitoring, Inc., Burlingame, CA; Watch4Net Solutions Inc., Montreal, Quebec, CANADA; Windward Consulting Group, Herndon, VA; WiTech, Cascina, Pisa, ITALY; and Wola Info S.A., Warsaw, Mokotó, POLAND, have been added as parties to this venture.

Also, AOL (UK) Ltd, London, UNITED KINGDOM; AOL Services (UK), London, UNITED KINGDOM; Barret AB, Frösön, SWEDEN; BellSouth, Atlanta, GA; Billing Services Group Europe, Buckden, Cambridgeshire, UNITED KINGDOM; BoldTech Systems, Inc., Denver, CO; Carphone Warehouse, London, UNITED KINGDOM; Casabyte, Inc., Renton, WA; Cingular Wireless LLC, Atlanta, GA; ClickSoftware Inc., Burlington, MA; COLT Telecom Group plc, London, UNITED KINGDOM; Covad Communications, San Jose, CA; Cramer Amdocs OSS Division, Bath, UNITED KINGDOM; DataSynapse, New York, NY; Dimension Data, Midrand, Gauteng, SOUTH AFRICA; Enkata, San Mateo, CA; Enure Networks, Herzeliya, ISRAEL; Evolved Networks, Ipswich, Suffolk, UNITED KINGDOM; Glenayre Technologies, Duluth, GA; GlobalLogic, Newark, NJ; IBB Consulting Group, New Home, PA; Infinera, Sunnyvale, CA; Infozech Software, New Delhi, Delhi, INDIA; Integra Consultores, Caracas, Municipio Metropolitano, VENEZUELA; ipworth, Bellevue, WA; Kamco, Melbourne, Victoria, AUSTRALIA; Kingston Communications (Hull) PLC, Wakefield, West Yorkshire, UNITED KINGDOM; Lawrence Livermore Nat'l Laboratory, Livermore, CA; Lucent Technologies Inc., Monmouth Junction, NJ; MCH-Group, Nieuwegein, NETHERLANDS; MetaSolv Software Inc., Plano, TX; NeoConsult ApS, Friederiksberg, DENMARK; NetProfits Limited, Erlangen, GERMANY; Optima Telekom, Zagreb, CROATIA; Orange Home UK PLC, St Albans, London, UNITED KINGDOM; OT/partners, Glen Echo, MD; Portal Software, Inc., Cupertino, CA; Professional Computing Resources, Inc. (PCR), Kentwood, MI; Ramax International, St. Petersburg, RUSSIA; Revenue Protect Limited, Hatfield, UNITED KINGDOM; Scribax consulting, OSMÖ, Stockholm, SWEDEN; SETA Corporation, McLean, VA; shanghai freesky inc., Shanghai, PEOPLES REPUBLIC OF CHINA; Siebel Systems, Emeryville, CA; Siemens Networks GmbH & Co. KG, Muenchen, Bavaria, GERMANY; Siemens Networks GmbH & Co. KG, Cassina de Pecchi, Milano, ITALY; Simpler Networks Inc., Dorval, Quebec, CANADA; Smart Com, Inc., Ljubljana, SLOVENIA; Sonic Software, Bedford, MA; Sopra Group, Sophia-Antipolis, Valbonne, FRANCE; Syndesis Limited, Richmond Hill, Ontario, CANADA; TBayTel, Thunder Bay, Ontario, CANADA; Telecom Expert Group, Lisle, IL; Toyo Business Engineering Corp., Narashino, Chiba, JAPAN; Trendium, Inc., Sunrise, FL; Tropic Networks Inc., Ottawa, Ontario, CANADA; TrueBaseline Corporation, Pittsburgh, PA; Tshibanda & Associates LLC, Kansas City, MO; Vallent Corporation, Bellevue, WA; Voltaire Consultants bv, Baarn, Utrecht, NETHERLANDS; and Xactium Limited, Sheffield, South Yorkshire, UNITED KINGDOM, have withdrawn as parties to this venture.

The following members have changed their names: Alcatel has changed its name to Alcatel-Lucent; Flextronics Software Systems has changed its name to Aricent; BOC Iberica has changed its name to BOC; DMR Consulting Group Chile S.A. has changed its name to everis Chile S.A.; Harris Corporation has changed its name to Harris Stratex Networks; Nokia Oyj has changed its name to Nokia Siemens Networks BV; Orishatech has changed its name to OT/Partners; Ronannki Infotech Private Ltd has changed its name to Ronanki Infotech Private Ltd; Digital China (SI-TECH) Information Technology Ltd has changed its name to SI-TECH Information Technology Ltd; STROM Telecom has changed its name to SITRONICS Telecom Solutions; Steria has changed its name to Steria Mummert Consulting AG; Tektronix Texas, LLC has changed its name to Tektronix; Telefonica S.A. has changed its name to Telefonica; UPC Nederland has changed its name to UPC Broadband Operations b.v.; and Agilance Inc. has changed its name to ZINC Solutions Inc.

The following members have changed their addresses: Actix has changed its address to London, UNITED KINGDOM; Arkipelago Inc. has changed its address to Toronto, Ontario, CANADA; Atos Origin has changed its address to Groningen, NETHERLANDS; Corrigent Systems has changed its address to Tel-Aviv, ISRAEL; Digital Fairway Corporation has changed its address to Toronto, Ontario, CANADA; Elitecore Technologies Limited has changed its address to Ahemedabad, Gujarat, INDIA; Hong Kong CSL Limited has changed its address to Telegraph Bay, Hong Kong, HONG KONG-CHINA; Kabira Technology has changed its address to San Mateo, CA; Level 3 Communications has changed its address to Broomfield, CO; Martin Dawes Systems has changed its address to Fearnhead, Warrington, UNITED KINGDOM; PrismTech has changed its address to Gateshead, Tyne & Wear, UNITED KINGDOM; SaskTel has changed its address to Regina, Saskatchewan, CANADA; TDC has changed its address to København C (Copenhagen), DENMARK; Telcordia Technologies has changed its address to Piscataway, NJ; Telekom Slovenije has changed its address to Ljubljana, SLOVENIA; Telstra Corporation has changed its address to Melbourne, Victoria, AUSTRALIA; Ukrainian Mobile Communications UMC has changed its address to Kiev, UKRAINE; webMethods has changed its address to Fairfax, VA; ZINC Solutions Inc. has changed its address to Montreal, Quebec, CANADA; ZTE Corporation has changed its address to Shenzhen, Guangdong, PEOPLES REPUBLIC OF CHINA.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on February 8, 2007. A notice was published in the Federal Register pursuant to Section 6(b) of the Act on April 9, 2007 (72 FR 17583).

Patricia A. Brink,
Deputy Director of Operations, Antitrust Division.

[FR Doc. 07-5556 Filed 11-06-07; 8:45 am]

BILLING CODE 4410-11-M